DEPARTMENT OF AGRICULTURE

Forest Service

Ketchikan-Misty FiordsFiords Ranger District; Tongass National Forest; Alaska; Central Gravina Timber Sale Environmental Impact Statement

AGENCY: Forest Service, USDA.

ACTION: Notice of Intent to Prepare an Environmental Impact Statement.

SUMMARY: The Forest Service, U.S. Department of Agriculture will prepare an Environmental Impact Statement (ETS) on a proposal to construct roads and harvest timber in central Gravina Island on the Ketchikan Misty Fiords Ranger District, Tongass National Forest. Two Alternatives have been developed for the public to comment on. These Proposed Alternatives would harvest between 18 and 38 million board feet (MMBF) of timber on between 515 and 1,250 acres and would construct between 7 and 16 miles of road respectively.

DATES: Opportunities for comments are available throughout the analysis process. Comments concerning the scope of the analysis will be most helpful if received within 30 days of the date of this notice. Additional opportunities for comment will be provided after release of both the Draft Environmental Impact Statement which is expected to be published November 2008 and the Final Environmental Impact Statement and Record of Decision are expected in May 2009.

ADDRESSES: Send or hand deliver written comments to the Ketchikan Misty Fiords Ranger District, Attn: Central Gravina ElS, Tongass National Forest, 3031 Tongass Avenue, Ketchikan, AK 99901; telephone (907) 225-2148. The FAX number is (907) 225-8738.

Send e-mail comments to: comments-alaska-tongass-ketchikan-mistyfiord@fs.fed.us with Central Gravina EIS on the subject line. Include your name, address, and organization name if you are commenting as a representative.

FOR FURTHER INFORMATION CONTACT: For further information, mail correspondence to Lynn Kolund, District Ranger, Ketchikan Misty Fiords Ranger District, Tongass National Forest, 3031 Tongass Avenue, Ketchikan, AK 99901, telephone (907) 228-4100 or Linda Pulliam, Interdisciplinary Team Leader, Ketchikan Misty Fiords Ranger District, Tongass National Forest, 3031 Tongass Avenue, Ketchikan, AK 99901, telephone (907) 228-4124.

SUPPLEMENTARY INFORMATION: This EIS will tier to the 2008 Tongass Land and Resource Management Plan (Forest Plan) that provides overall guidance, goals, objectives, and management area direction to achieve the desired condition for the project area.

The project area is administered by the Ketchikan-Misty Fiords Ranger District of the Tongass National Forest, Ketchikan, Alaska and occurs in Value Comparison Units (VCUs) 7610 and VCU 7630 as designated by the Forest Plan. The Central Gravina project area is located between Bostwick Inlet and Vallenar Bay on Gravina Island, which is located approximately 5 miles west of Ketchikan. The land use designation (LUD) for the project area is Timber Production. As part of the Forest Plan update certain LUDs on Gravina Island were adjusted based on comments received from the public during the Forest Plan draft EIS review. LUDs to the south and west of the Central Gravina project area have been adjusted and allocated to more restrictive non development LUDs. The proposed timber harvest units and roads are within the Gravina Inventoried Roadless Area #522. Slightly over three-quarters of inventoried roadless acres are included in non-development LUDS. The Forest Plan allocates 24% of the inventoried roadless acres to development LUDs; only three percent of the land in inventoried roadless areas would be included in the suitable land base. The Central Gravina project area falls within this three percent inventory roadless area that lies within a Timber LUD. The 2008 Forest Plan Timber Sale Program Adaptive Management Strategy identified three phases of projected timber development. The Central Gravina project area falls within the Phase 1, which includes most of the roaded portion of the ASQ land base and most of the lower valued inventoried roadless areas.

Purpose and Need for Action

The purpose and need for the proposed action responds to the goals and objectives identified by the 2008 Tongass Land and Resource Management Plan, and helps move the area toward the Forest Plan desired conditions. Forest Plan goals, objectives, and desired conditions that apply to the project include:

1. Maintain and promote wood production from suitable forest lands, providing a continuous supply of wood to meet society's needs.

2. Manage Forest lands for sustained long-term timber yields.

3. Seek to provide a supply of timber that meets the annual and planning-cycle market demand, consistent with the standards and guidelines for this LUD.

Proposed Action (Alternative 3)

The Central Gravina Timber Harvest proposed action (Alternative 3) is to harvest approximately 38 million board feet (MMBF) of timber volume from approximately 1,250 acres of forested land in 53 harvest units while meeting Forest Plan standards. The proposed action includes using ground-based shovel, cable, helicopter yarding systems. Areas suitable for ground-based or cable logging would be harvested with even-aged (clearcut) harvest prescriptions. Helicopter logging areas would be harvested either with even-aged (clearcut) or uneven-aged (group or single tree selection) harvest prescriptions depending on terrain, tree species, economics, or environmental concerns. All timber harvest will use silviculture prescriptions suited to meet the standards and guidelines for the Tongass Forest Plan.

The proposed action includes construction of approximately 14 miles of National Forest System and 2 miles of temporary road would be constructed. All logs would be hauled by truck to a privately owned log transfer facility located near Pacific Log and Lumber on Tongass Narrows.

Alternative 2

An alternative to the proposed action is to build roads to harvest timber units only on the east side of the central valley on Gravina Island. This alternative would harvest approximately 515 acres from 25 Units yielding 18 MMBF of timber volume. This proposes construction of approximately 6 miles of National Forest System and 1 mile of temporary road would be constructed. All logs would be hauled by truck to a marine access facility located near Pacific Log and Lumber on Tongass Narrows. Alternative 2 provides an option for roadless area concerns.

Public Participation

This notice initiates the scoping process which guides the development of the environmental impact statement. The Forest Service will be seeking information, comments, and assistance from Tribal Governments, Federal, State, and local agencies, individuals and organizations may be interested in, or affected by, the proposed activities. In addition to this Notice of Intent, legal notices and display ads will be placed in the Ketchikan Daily News. The Ketchikan Daily News is the official newspaper of record for this project. Written scoping comments are being solicited through a scoping letter that was mailed to interested individuals and agencies on May 6, 2008. The scoping process includes: (1) Identification of potential issues; (2) identification of issues to be analyzed in depth; and (3) elimination of non-significant issues or those that have been covered by a previous environmental review. Based on results of scoping and the resource capabilities within the project area, alternatives including a “no-action” alternative will be developed for the Draft Environmental Impact Statement. Subsistence hearings, as provided for in Title VIII, Section 810 of the Alaska National Interest Lands Conservation Act (ANILCA), will be conducted, if necessary, during the comment period on the Draft Environmental Impact Statement.

Importance of Public Participation in Subsequent Environmental Review

A Draft Environmental Impact Statement will be prepared for comment. The comment period on the Draft Environmental Impact Statement will be 45 days from the date the Environmental Protection Agency publishes the notice of availability in the Federal Register.

The Forest Service believes, at this early stage, it is important to give reviewers notice of several court rulings related to public participation in the environmental review process. First, reviewers of Draft Environmental Impact Statement must structure their participation in the environmental review of the proposal so that it is meaningful and alerts an agency to the reviewer's position and contentions, (Vermont Yankee Nuclear Power Corp. v. NRDC, 435 U.S. 519, 553 (1978). Also, environmental objections that could be raised at the Draft Environmental Impact Statement stage but that are not raised until after completion of the Final Environmental Impact Statement may be waived or dismissed by the courts, City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final Environmental Impact Statement.

To assist the Forest Service in identifying and considering issues and concerns on the proposed action, comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection. Comments submitted anonymously will be accepted and considered; however, those who submit anonymous comments will not have standing to appeal the subsequent decision under 36 CFR 215 or 217.

Permits or Licenses Required

1. U.S. Army Corps of Engineers

• Approval of discharge of dredge or fill material into the waters for the United States under Section 404 of the Clean Water Act;

• Approval of the construction of structures or work in navigable waters of the United States under Section 10 of the Rivers and Harbor Act of 1899;

2. Environmental Protection Agency

• General National Pollutant Discharge Elimination System for Log Transfer Facilities in Alaska;

• Review Spill Prevention Control and Countermeasure Plan;

3. State of Alaska, Department of Environmental Conservation (DEC)

• Tideland Permit and Lease or Easement;

• Certification of Compliance with Alaska Water Quality Standards (401 Certification) Chapter 20

4. Alaska State Division of Natural Resources (DNR)

• Division of Coastal and Ocean Management (DCOM)—ACMP Consistency Determination

Comment Requested

This notice of intent initiates the scoping process which guides the development of the environmental impact Statement.

Responsible Official

Forrest Cole, Forest Supervisor, Tongass National Forest, Federal Building, 648 Mission Street, Ketchikan, Alaska 99901.

Nature of Decision To Be Made

The Forest Supervisor will decide:

1. If the project will proceed under a chosen alternative, as a modified alternative, or not at all.

2. The design criteria, mitigations and monitoring requirements the Forest Service will apply to the project.

The responsible official will consider the comments, responses, disclosure of environmental consequences, and applicable laws, regulations and policies in making the decision and state his rationale in the Record of Decision.

(Authority: 40 CFR 1501.7 and 1508.22; Forest Service Handbook 1909.15, Section 21)

Dated: April 29, 2008.
Forrest Cole,
Forest Supervisor.

[FR Doc. E8-9929 Filed 5-6-08; 8:45 am]

BILLING CODE 3410-11-M